DEPARTMENT OF THE INTERIOR

Bureau of Land Management

[Docket No. 4310-DN-P; MT-060-00-1220-AE-003E]

Closure of Unauthorized Roads Within the BLM Hole-in-the-Wall Recreation Area and Unauthorized Two-track Roads on Adjacent BLM Lands, Upper Missouri National Wild and Scenic River, Chouteau County, Montana

AGENCY: Bureau of Land Management, Lewistown Field Office, Lewistown, Montana.

SUMMARY: Notice is hereby given that unauthorized roads within the Hole-in-the-Wall Recreation Area and on adjacent BLM lands, along the Upper Missouri National Wild and Scenic River in Chouteau County, Montana are hereby closed to all types of motorized vehicles, until this notice is rescinded. The unauthorized closed roads are located on BLM lands in T.24 N., R. 13 E., Section 21, Section 22, Section 23, Section 26, Section 27, Section 28,and Section 33 in Chouteau County, Montana. No off-road motorized travel is allowed on the above listed BLM lands. No motorized vehicles will be allowed to drive through or into the fenced developed recreation area. The main access road to the Hole-in-the-Wall Recreation Area will remain open.

The purpose of these road closures is to prevent soil erosion, spread of noxious weeds, reduce user conflicts, and to protect BLM recreation improvements and geologic formations in the area. Motorized travel on these closed roads is limited to official administrative, emergency, or law enforcement vehicles only. Use by additional persons, authorized by the BLM Lewistown Field Manager, may be allowed, but must be approved in advance by phone or in writing.

SUPPLEMENTARY INFORMATION: Maps showing the above described area are available at the BLM's Lewistown Field Office for public review. The roads closed under this order will be posted with signs.

The closure is made under the authority of 43 CFR 9268.3 (d)(1)(i,ii,iii,iv,v,) and 8364.1(a). Any person who fails to comply with the provisions of this closure order may be subject to the penalties provided in 43 CFR 9268.3(c)(2), which includes a fine not to exceed $1,000.00 and/or imprisonment not to exceed 12 months.

EFFECTIVE DATE: These road closures will become effective May 3, 2000, unless substantial and substantive adverse comments are received.

FOR FURTHER INFORMATION CONTACT: Gary Slagel, BLM Assistant Field Office Manager, at 406/538-7461.

Dated: March 22, 2000.
David L. Mari,
Field Manager.

[FR Doc. 00-8125 Filed 3-31-00; 8:45 am]

BILLING CODE 4310-HC-P